ENVIRONMENTAL PROTECTION AGENCY

40 CFR Parts 60 and 63

[EPA-HQ-OAR-2010-0505; FRL-9456-2]

RIN 2060-AP76

Oil and Natural Gas Sector: New Source Performance Standards and National Emission Standards for Hazardous Air Pollutants Reviews

AGENCY: Environmental Protection Agency (EPA).

ACTION: Proposed rule; Announcement of public hearings.

SUMMARY: The EPA published in the Federal Register on August 23, 2011, the proposed rule, “Oil and Natural Gas Sector: New Source Performance Standards and National Emission Standards for Hazardous Air Pollutants Reviews.” The EPA is announcing three public hearings to be held for the proposed rule.

DATES: The public hearings will be held on September 27, 2011, September 28, 2011, and September 29, 2011.

ADDRESSES: The public hearings will be held on September 27, 2011, in Pittsburgh, Pennsylvania, September 28, 2011, in Denver, Colorado, and September 29, 2011, in Arlington, Texas. The September 27, 2011, public hearing will be held at the David L. Lawrence Convention Center in Rooms 315-316, located at 1000 Ft. Duquesne Blvd., Pittsburgh, Pennsylvania 15222; telephone: (412) 565-6000. The September 28, 2011, public hearing will be held at the Colorado Convention Center in Room 207, located at 700 14th Street, Denver, Colorado 80202; telephone: (303) 228-8000. The September 29, 2011, public hearing will be held at the Arlington Municipal Building in the City Council Chambers located at 101 W. Abram Street, Arlington, Texas 76010; telephone: (817) 459-6122.

The three public hearings will convene at 9 a.m. and will continue until 8 p.m. (local time). The EPA will make every effort to accommodate all speakers that arrive and register before 8 p.m. A lunch break is scheduled from 12:30 p.m. until 2 p.m. and a dinner break is scheduled from 5 p.m. until 6:30 p.m. The EPA's Web site for the rulemaking, which includes the proposal and information about the hearings, can be found at: http://www.epa.gov/airquality/oilandgas/.

FOR FURTHER INFORMATION CONTACT: If you would like to present oral testimony at the public hearing, please contact Ms. Joan C. Rogers, U.S. Environmental Protection Agency, Office of Air Quality Planning and Standards, Sector Policies and Programs Division (E143-03), Research Triangle Park, North Carolina 27711; telephone: (919) 541-4487; fax number: (919) 541-3470; e-mail address: rogers.joanc@epa.gov (preferred method for registering), no later than by 4 p.m. (Eastern Standard Time), 2 business days prior to each hearing. The last day to register to present oral testimony in advance will be Friday, September 23, 2011, for the Pittsburgh, Pennsylvania, public hearing; Monday, September 26, 2011, for the Denver, Colorado, public hearing; and Tuesday, September 27, 2011, for the Arlington, Texas, public hearing. If using e-mail, please provide the following information: The time you wish to speak (morning, afternoon or evening), name, affiliation, address, e-mail address and telephone and fax numbers. Time slot preferences will be given in the order requests are received. Requests to speak will be taken the day of each of the hearings at the hearing registration desk, although preferences on speaking times may not be able to be fulfilled. If you will require the service of a translator, please let us know at the time of registration.

Questions concerning the August 23, 2011 (76 FR 52738), proposed rule should be addressed to Bruce Moore, Office of Air Quality Planning and Standards, Sector Policies and Programs Division (E143-05), Environmental Protection Agency, Research Triangle Park, North Carolina 27711; telephone number: (919) 541-5460; facsimile number: (919) 541-3470; e-mail address: moore.bruce@epa.gov.

Public hearing: The proposal for which the EPA is holding the public hearings was published in the Federal Register on Tuesday, August 23, 2011 (76 FR 52738), and is available at: http://www.epa.gov/airquality/oilandgas/ and also in the docket identified below. The public hearings will provide interested parties the opportunity to present oral comments regarding the EPA's proposed standards, including data, views or arguments concerning the proposal. The EPA may ask clarifying questions during the oral presentations, but will not respond to the presentations at that time. Written statements and supporting information submitted during the comment period will be considered with the same weight as any oral comments and supporting information presented at the public hearing.

Commenters should notify Ms. Rogers if they will need specific equipment or if there are other special needs related to providing comments at the public hearings. The EPA will provide equipment for commenters to show overhead slides or make computerized slide presentations if we receive special requests in advance. Oral testimony will be limited to 5 minutes for each commenter. The EPA encourages commenters to provide the EPA with a copy of their oral testimony electronically (via e-mail or CD) or in hard copy form.

The public hearing schedules, including lists of speakers, will be posted on the EPA's Web site at http://www.epa.gov/airquality/oilandgas/. Verbatim transcripts of the hearings and written statements will be included in the docket for the rulemaking. The EPA will make every effort to follow the schedule as closely as possible on the day of the hearings; however, please plan for the hearing to run either ahead of schedule or behind schedule.

How can I get copies of this document and other related information?

The EPA has established a docket for the proposed rule, “Oil and Natural Gas Sector: New Source Performance Standards and National Emission Standards for Hazardous Air Pollutants Reviews,” under No. EPA-HQ-OAR-2010-0505, available at http://www.regulations.gov.

List of Subjects

40 CFR Part 60

Environmental protection, Administrative practice and procedure, Air pollution control, Intergovernmental relations, Reporting and recordkeeping requirements.

40 CFR Part 63

Environmental protection, Administrative practice and procedure, Air pollution control, Hazardous substances, Intergovernmental relations, Reporting and recordkeeping requirements.

Dated: August 19, 2011.
Mary Henigin,
Acting Director, Office of Air Quality Planning and Standards.

[FR Doc. 2011-21726 Filed 8-25-11; 8:45 am]

BILLING CODE 6560-50-P